DEPARTMENT OF STATE

22 CFR Part 171

[Public Notice: 12225]

RIN 1400-AF57

Privacy Act of 1974; STATE-60, Special Presidential Envoy for Hostage Affairs and Related Records

AGENCY: Department of State.

ACTION: Final rule.

SUMMARY: The Department of State is giving notice of a publication for a system of records pursuant to the Privacy Act of 1974 for the Special Presidential Envoy for Hostage Affairs and Related Records, STATE-60; and this final rule, which exempts portions of this system of records from one or more provisions of the Privacy Act of 1974.

DATES: This rule is effective December 15, 2023.

FOR FURTHER INFORMATION CONTACT: Eric F. Stein, Senior Agency Official for Privacy; U.S. Department of State; Office of Global Information Services, A/GIS; Room 4534, 2201 C St. NW; Washington, DC 20520 or by calling (202) 485-2051.

SUPPLEMENTARY INFORMATION: The Department of State maintains the Special Presidential Envoy for Hostage Affairs and Related Records system of records. The primary purpose of this system of records is to support diplomatic and consular efforts to secure the recovery of and provide assistance and support services to individuals taken hostage or wrongfully detained abroad.

The Department concurrently published a notice of a new system of records, Special Presidential Envoy for Hostage Affairs and Related Records, STATE-60, 88 FR 23487, April 17, 2023, and a proposed rule with a request for comments (88 FR 23368), amending 22 CFR part 171 to exempt portions of STATE-60 from subsections (c)(3); (d); (e)(1); (e)(4)(G), (H), and (I); and (f) of the Privacy Act pursuant to 5 U.S.C. 552a(k)(1) and (k)(2). STATE-60 is exempted under subsection (k)(1) to the extent that records within that system are subject to the provisions of 5 U.S.C. 552(b)(1). STATE-60 is exempted under subsection (k)(2) to the extent that records within that system are comprised of investigatory material compiled for law enforcement purposes, subject to the limitations set forth in that section. One public comment was received; however, it did not pertain to the subject of this rulemaking.

The Department is now promulgating a final rule with no substantive changes from the proposed rule.

Regulatory Findings

Administrative Procedure Act

In accordance with the Administrative Procedure Act, this rule was published and 60 days provided for public comment.

Other Regulatory Analyses

This rule does not affect small businesses; is not subject to the Unfunded Mandates Act of 1995; is not a major rule within the meaning of the Congressional Review Act, or a significant rule within the meaning of Executive Order 12866; has no federalism or tribal implications; and will not create or modify any information collections subject to the Paperwork Reduction Act.

List of Subjects in 22 CFR Part 171

Administrative practice and procedure; Freedom of information; Privacy.

For the reasons discussed above, the Department revises 22 CFR part 171 to read as follows:

PART 171—PUBLIC ACCESS TO INFORMATION

1. The authority citation for part 171 continues to read as follows:

Authority: 22 U.S.C. 2651a; 5 U.S.C. 552, 552a; 5 U.S.C. Ch. 131; E.O. 12600, 52 FR 23781, 3 CFR, 1987 Comp., p. 235; 5 CFR part 2634.

2. Amend § 171.26 by:

a. Adding an entry, in alphabetical order, in Table 2 to Paragraph (b)(1) for “Special Presidential Envoy for Hostage Affairs and Related Records, State-60.”; and

b. Adding an entry, in alphabetical order, in Table 3 to Paragraph (b)(2) for “Special Presidential Envoy for Hostage Affairs and Related Records, State-60.”

3. The additions read as follows:

§ 171.26 Exemptions.

* * * * *

(b) * * *

(1) * * *

Table 2 to Paragraph (b)(1)
Title | Number
* * * * *
Special Presidential Envoy for Hostage Affairs | STATE-60
* * * * *

(2) * * *

Table 3 to Paragraph (b)(2)
Title | Number
* * * * *
Special Presidential Envoy for Hostage Affairs | STATE-60
* * * * *

* * * * *

Kevin E. Bryant,
Deputy Director, Office of Directives Management, Department of State.

[FR Doc. 2023-25018 Filed 11-14-23; 8:45 am]

BILLING CODE 4710-05-P